DEPARTMENT OF HOMELAND SECURITY

U.S. Customs and Border Protection

[Docket No. USCBP-2015-0014]

Advisory Committee on Commercial Operations to U.S. Customs and Border Protection (COAC) Charter Renewal

AGENCY: U.S. Customs and Border Protection, Department of Homeland Security (DHS).

ACTION: Committee Management; Notice of Federal Advisory Committee Charter Renewal

SUMMARY: The Secretary of the Department of Homeland Security (DHS) has determined that the renewal of the charter of the Advisory Committee on Commercial Operations to U.S. Customs and Border Protection (COAC) is necessary and in the public interest in connection with the U.S. Customs and Border Protection's (CBP's) performance of its duties. This determination follows consultation with the Committee Management Secretariat, General Services Administration.

Name of Committee: Advisory Committee on Commercial Operations to U.S. Customs and Border Protection (COAC).

ADDRESSES: If you desire to submit comments on this action, they must be submitted by July 6, 2015. Comments must be identified by (docket number) and may be submitted by one of the following methods:

• Federal eRulemaking Portal: http://www.regulations.gov. Follow the instructions for submitting comments.

• Email: (Tradeevents@dhs.gov). Include the docket number in the subject line of the message.

• Fax: (202) 325-4290.

• Mail: Ms. Wanda Tate, Office of Trade Relations, U.S. Customs and Border Protection, 1300 Pennsylvania Avenue NW., Room 3.5A, Washington, DC 20229.

• Instructions: All submissions received must include the words “Department of Homeland Security” and USCBP-2015-0014, the docket number for this action. Comments received will be posted without alteration at http://www.regulations.gov including any personal information provided.

• Docket: For access to the docket to read background documents or comments received, go to http://www.regulations.gov and search for Docket Number USCBP-2015-0014. To submit a comment, see the link on the Regulations.gov Web site for “How do I submit a comment?” located on the right hand side of the main site page.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

Purpose and Objective: The charter of the Advisory Committee on Commercial Operations to U.S. Customs and Border Protection (COAC) is being renewed for two years in accordance with the Federal Advisory Committee Act (FACA) 5 U.S.C. Appendix. A copy of the charter can be found at http://www.cbp.gov/sites/default/files/documents/COAC%20Charter%20Filed%203.23.15.pdf. COAC provides advice to the Secretary of Homeland Security, the Secretary of the Treasury, and the Commissioner of U.S. Customs and Border Protection (CBP) on matters pertaining to the commercial operations of CBP and related functions within the Department of Homeland Security and the Department of the Treasury. The COAC may consider issues such as: global supply chain security and facilitation, CBP modernization and automation, air cargo security, customs broker regulations, trade enforcement, exports, trusted trader, revenue modernization, One U.S. Government approach to trade and safety of imports, agricultural inspection, and protection of intellectual property rights.

Duration: The committee's charter is effective March 23, 2015, and expires March 23, 2017.

Responsible CBP Officials: Ms. Maria Luisa Boyce, Office of Trade Relations, U.S. Customs and Border Protection, 1300 Pennsylvania Avenue NW., Room 3.5A, Washington, DC 20229; telephone (202) 344-1440.

Dated: April 29, 2015.
Maria Luisa Boyce,
Senior Advisor for Private Sector Engagement/Executive Director, Office of Trade Relations.

[FR Doc. 2015-10371 Filed 5-1-15; 8:45 am]

BILLING CODE 9111-14-P